DEPARTMENT OF TRANSPORTATION

Federal Aviation Administration

Notice of Intent of Waiver With Respect to Land; Indianapolis International Airport, Indianapolis, Indiana

AGENCY: Federal Aviation Administration (FAA), DOT.

ACTION: Notice.

SUMMARY: The FAA is considering a proposal to change 97.507 acres of airport land from aeronautical use to non-aeronautical use and to authorize the sale of airport property located at Indianapolis International Airport, Indianapolis, Indiana. The aforementioned land is not needed for aeronautical use.

The land consists of 155 original airport acquired parcels. The parcels were acquired under grants 6-18-0038-14, 3-18-0038-17, 3-18-0038-18, 3-18-0038-23, 3-18-0038-24, 3-18-0038-43, 3-18-0038-45, 3-18-0038-47, 3-18-0038-51, 3-18-0038-54, 3-18-0038-67, 3-18-0038-78, 3-18-0038-81, 3-18-0038-83, 3-18-0038-88, 3-18-0038-96, 3-18-0038-112, Passenger Facility Charges, and local funding.

There are no impacts to the airport by allowing the Indianapolis Airport Authority to dispose of the property. The land is not needed for future aeronautical development.

DATES: Comments must be received on or before October 29, 2018.

ADDRESSES: Documents are available for review by appointment at the FAA Chicago Airports District Office, Melanie Myers, Program Manager, 2300 East Devon Avenue, Des Plaines, Illinois 60018. Telephone: (847) 294-7525/Fax: (847) 294-7046 and Eric Anderson, Director of Properties, Indianapolis Airport Authority, 7800 Col. H. Weir Cook Memorial Drive, Indianapolis, IN 46241 Telephone: 317-487-5135.

Written comments on the Sponsor's request must be delivered or mailed to: Melanie Myers, Program Manager, Federal Aviation Administration, Chicago Airports District Office, 2300 East Devon Avenue, Des Plaines, Illinois 60018. Telephone: (847) 294-7525/Fax: (847) 294-7046.

FOR FURTHER INFORMATION CONTACT: Melanie Myers, Program Manager, Federal Aviation Administration, Chicago Airports District Office, 2300 East Devon Avenue, Des Plaines, Illinois 60018. Telephone: (847) 294-7525/Fax: (847) 294-7046.

SUPPLEMENTARY INFORMATION: In accordance with section 47107(h) of Title 49, United States Code, this notice is required to be published in the Federal Register 30 days before modifying the land-use assurance that requires the property to be used for an aeronautical purpose.

The disposition of proceeds from the sale of the airport property will be in accordance with FAA's Policy and Procedures Concerning the Use of Airport Revenue, published in the Federal Register on February 16, 1999 (64 FR 7696).

This notice announces that the FAA is considering the release of the subject airport property at the Indianapolis International Airport, Indianapolis, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Land Description

Lots Numbered 7, 8, 9, 10, 12, 13, 14, 15, 16, 17, 18, and 21 through 33 of Hill Top Addition, as per plat thereof, recorded in Plat Book 4, pages 134 through 135 in the Office of the Recorder of Hendricks County, Indiana, Lots Numbered 1 through 8 and part of Lots 9 and 12 of Applecreek, as per plat thereof, recorded in Plat Book 8, page 85 in said Recorder's Office, Lots Numbered 1, 2, 8, 9, 10, 11, and 12 and part of Lots Numbered 3 through 7 of Peaceful Acres, as per plat thereof, recorded in Plat Book 6, pages 111 through 112 in said Recorder's Office, and part of the Northeast Quarter of Section 32, Township 15 North, Range 2 East in Hendricks County, Indiana, more particularly described as follows:

Beginning at the Southwest corner of the Northeast Quarter of said Section 32; thence North 00 degrees 51 minutes 41 seconds West (all bearings are based on the Indiana State Plane Coordinate system, West Zone (NAD83)) along the West line of said Northeast Quarter 660.00 feet to the Westerly extension of the south boundary of said Applecreek; thence North 88 degrees 44 minutes 48 seconds East along said Westerly extension and parallel with the South line of said Northeast Quarter 30.00 feet to the southwest corner of said Applecreek; thence North 00 degrees 51 minutes 41 seconds West along the west boundary of said Applecreek and parallel with the West line of said Northeast Quarter 330.00 feet to the northwest corner thereof; thence South 88 degrees 44 minutes 48 seconds West along the Westerly extension of the north boundary of said Applecreek and parallel with the South line of said Northeast Quarter 30.00 feet to the West line of said Northeast Quarter; thence North 00 degrees 51 minutes 41 seconds West along said West line 1550.17 feet to a point that is 132.00 feet South of the Northwest corner of said Northeast Quarter; thence North 89 degrees 02 minutes 59 seconds East parallel with the North line of said Northeast Quarter 1163.00 feet to the Northeast corner of land described in Deed Book 342, pages 168 through 169, recorded in said Recorder's Office and a ⅝ inch diameter rebar with a yellow plastic cap stamped “Cripe Firm No. 0055” (hereinafter referred to as “a rebar”); thence South 00 degrees 51 minutes 41 seconds East along the east line thereof and parallel with the West line of said Northeast Quarter 134.00 feet to the center line of a 30 foot right of way as described in Miscellaneous Record 35, pages 507 through 508, recorded in said Recorder's Office and a mag nail with washer stamped “Cripe Firm No. 0055” (hereinafter referred to as “a mag nail”); thence North 89 degrees 02 minutes 59 seconds East along said center line and parallel with the North line of said Northeast Quarter 248.10 feet to the northeast corner of land described in Deed Book 337, pages 705, recorded in said Recorder's Office and “a mag nail”; thence South 00 degrees 51 minutes 41 seconds East along the east line of said described land and parallel with the West line of said Northeast Quarter 134.00 feet to the north line of land described as Tract III in Instrument No. 200000012704, recorded in said Recorder's Office and “a rebar”; thence North 89 degrees 02 minutes 59 seconds East along said north line and parallel with the North line of said Northeast Quarter 64.00 feet to the southwest corner of land described in Deed Book 340, page 84 and “a rebar” (the following three courses are along the west and north boundary of said described land); (1) thence North 00 degrees 51 minutes 41 seconds West parallel with the West line of said Northeast Quarter 134.00 feet to “a mag nail”; (2) thence North 89 degrees 02 minutes 59 seconds East parallel with the North line of said Northeast Quarter 53.96 feet to a tangent curve to the right having a radius of 25.00 feet, the radius point of which bears South 00 degrees 57 minutes 01 seconds East and “a mag nail”; (3) thence Southerly along said curve 39.31 feet to a point which bears North 89 degrees 08 minutes 19 seconds East from said radius point and “a mag nail”; thence South 00 degrees 51 minutes 41 seconds East along the east boundary of said described land and the east boundary of land described as Tract III in said Instrument No. 200000012704 and the parallel with the West line of said Northeast Quarter 218.00 feet to tangent curve to the right having a radius of 25.00 feet, the radius point of which bears South 89 degrees 08 minutes 19 seconds West and “a rebar”; thence Southwesterly along said curve and said east boundary 31.96 feet a point which bears South 17 degrees 37 minutes 10 seconds East from said radius point, the northeast corner of Tract II of land described in said Instrument No. 200000012704 and “a rebar”; thence South 17 degrees 53 minutes 01 seconds East along the east line of said Tract II a distance of 139.03 feet to the South line of the North Half of the North Half of said Northeast Quarter and “a rebar”; thence North 88 degrees 58 minutes 26 seconds East along said South line 102.41 feet to the west boundary of land described in Deed Book 238, page 164, recorded in said Recorder's Office and “a rebar”; thence North 00 degrees 59 minutes 47 seconds West along said west boundary 533.82 feet to “a rebar”; thence North 89 degrees 11 minutes 28 seconds East 70.98 feet to “a rebar”; thence South 00 degrees 53 minutes 25 seconds East 653.82 feet to “a rebar”; thence South 89 degrees 06 minutes 35 seconds West 63.81 feet to “a rebar”; thence South 00 degrees 53 minutes 25 seconds East 101.61 feet to “a rebar”; thence North 89 degrees 06 minutes 35 seconds East 63.81 feet to “a rebar”; thence South 00 degrees 53 minutes 25 seconds East 1750.31 feet to the north right of way of Stafford Road and “a rebar”; thence South 88 degrees 44 minutes 48 seconds West along the north right of way of Stafford Road and parallel with the South line of said Northeast Quarter 895.12 feet to the east line of land described in Deed Book 306, page 513, recorded in said Recorder's Office; thence South 00 degrees 51 minutes 41 seconds East along said east line and parallel with the East line of said Northeast Quarter 25.00 feet to the South line of said Northeast Quarter; thence South 88 degrees 44 minutes 48 seconds West along said South line 855.30 feet to the point of beginning, containing 97.507 acres, more or less.

Issued in Des Plaines, Illinois, on September 13, 2018.
Deb Bartell,
Manager, Chicago Airports District Office, FAA, Great Lakes Region.

[FR Doc. 2018-21216 Filed 9-27-18; 8:45 am]

BILLING CODE 4910-13-P